ENVIRONMENTAL PROTECTION AGENCY

[ER-FRL-6668-1]

Environmental Impacts Statements; Notice of Availability

Responsible Agency: Office of Federal Activities, General Information (202) 564-7167 or http://www.epa.gov/compliance/nepa/.

Weekly receipt of Environmental Impact Statements

Filed 09/26/2005 Through 09/30/2005

Pursuant to 40 CFR 1506.9.

EIS No. 20050401, Draft Supplement, SFW, CA, Southern Sea Otters (Enhydra lutris nereis) Translocation Program, New and Updated Information, San Nicolas Island, Southern California Bight, CA, Comment Period Ends: 01/05/2006, Contact: Greg Sander 805-644-1766 Ext. 315.

EIS No. 20050402, Final EIS, FHW, UT, Iron County Transportation Corridors, Construction from Station Road 56 to Exit 51 on Interstate 15, Funding and Right-of-Way Grant, Southwest of the Cedar City Limits, Iron County, UT, Wait Period Ends: 11/07/2005, Contact: Gregory S. Punske 801-963-0182.

EIS No. 20050403, Final EIS, AFS, CA, Watdog Project, Proposes to Reduce Fire Hazards, Harvest Trees, Using Group Selection Methods, Feather River Ranger District, Plumas National Forest, Butte and Plumas Counties, CA, Wait Period Ends: 11/07/2005, Contact: Susan Joyce 530-532-6500.

EIS No. 20050404, Draft EIS, DOI, OH, First Ladies National Historic Site General Management Plan, Implementation, Canton, OH, Comment Period Ends: 11/30/2005, Contact: Nick Chevance 402-661-1844.

EIS No. 20050405, Draft EIS, NPS, NV, Clean Water Coalition Systems Conveyance and Operations Program, Construction, Operation and Maintenance, City of Las Vegas, City County, NV, Comment Period Ends: 12/06/2005, Contact: Michael Boyles 702-293-8978.

EIS No. 20050406, Draft EIS, FHW, WA, South Park Bridge Project, Proposes to Rehabilitate or Replace the Historic South Park Ridge over the Duwamish Waterway at 14th/16 Avenue S, U.S. Coast Guard Permit and U.S. Army COE Section 10 and 404 Permits, King County, WA, Comment Period Ends: , 11/21/2005, Contact: Jim Leonard 360-753-9408.

EIS No. 20050407, Final EIS, NPS, AZ, Saguaro National Park Fire Management Plan, Implementation, Tucson, AZ, Wait Period Ends: 11/07/2005, Contact: Sarah Craighead 520-733-5101.

EIS No. 20050408, Final EIS, FHW, WI, US 41 Highway Corridor Project, Transportation Improvement between the Cities of Oconto and Perhtigo, Funding, Marinette and Oconto Counties, WI, Wait Period Ends: 11/07/2005, Contact: Johhny Gerbitz 608-829-7500.

EIS No. 20050409, Final EIS, AFS, OR, Joseph Creek Rangeland Analysis Project, Proposal to Allocate Forage for Commercial Livestock Grazing on Eleven Allotment, Wallowa-Whitman National Forests, Wallowa Valley Ranger District, Wallowa County, OR, Wait Period Ends: 11/07/2005, Contact: Alicia Glassford 541-426-5689.

EIS No. 20050411, Draft EIS, IBR, CA, Central Valley Project, West San Joaquin Division, Long-Term Water Service Contract Renewal, Cities of Avenal, Coalinga and Huron, Fresno, King and Merced Counties, CA, Comment Period Ends: 11/25/2005, Contact: Joe Thompson 559-487-5179.

EIS No. 20050412, Final EIS, FHW, UT, US 6 Highway Project, Improvements from Interstate 15 (I-15) in Spanish Fork to Interstate (I-70) near Green River, Funding, Right-of-Way Permit and U.S. Army COE Section 404 Permit, Utah, Wasatch, Carbon, Emery Counties, UT, Wait Period Ends: 11/07/2005, Contact: Jeff Berna 801-963-0182.

EIS No. 20050413, Draft Supplement, FHW, NC, NC 12 Replacement of Herbert C. Bonner Bridge (Bridge No. 11 ) New and Updated Information, over Oregon Inlet Construction, Funding, U.S. Coast Guard Permit, Special-Use-Permit, Right-of-Way Permit, U.S. Army COE Section 10 and 404 Permit, Dare County, NC , Comment Period Ends: 11/23/2005, Contact: John F. Sullivan 919-856-4346.

EIS No. 20050414, Draft EIS, NRC, NY, Generic—License Renewal of Nuclear Plants for Nine Mile Point Nuclear Station, Units 1 and 2, Supplement 24 to NUREG 1437, Implementation, Lake Ontario, Oswego County, NY, Comment Period Ends: 12/22/2005, Contact: Leslie C. Fields 301-415-1186.

EIS No. 20050415, Draft EIS, FRA, PA, Pennsylvania High-Speed Maglev Project, Construction between Pittsburgh International Airport (PIA) and Greensburg Area, The Pennsylvania Project of Magnetic Levitation Transportation Technology Deployment Program, Allegheny and Westmoreland Counties, PA, Comment Period Ends: 12/06/2005, Contact: David Valenstein 202-493-6368.

EIS No. 20050416, Draft EIS, NOA, TX, PROGRAMMATIC—Texas National Estuarine Research Reserve and Management Plan, Mission-Aransas Estuary, Site Designation, Federal Approval, TX, Comment Period Ends:11/23/2005, Contact: Laurie McGilvray 301-563-1158.

EIS No. 20050417, Final Supplement, COE, MD, Poplar Island Environmental Restoration Project, Habitat Restoration and Dredged Material Capacity, Chesapeake Bay, Talbot County, MD, Wait Period Ends: 11/07/2005, Contact: Mark Mendelsohn 410-962-9466.

Dated: October 4, 2005.
Robert W. Hargrove,
Director, NEPA Compliance Division, Office of Federal Activities.

[FR Doc. 05-20208 Filed 10-6-05; 8:45 am]

BILLING CODE 6560-50-P